DEPARTMENT OF AGRICULTURE

Forest Service

Notice of Resource Advisory Committee Meeting

AGENCY: Lassen Resource Advisory Committee, Susanville, California, USDA Forest Service.

ACTION: Notice of meeting.

SUMMARY: Pursuant to the authorities in the Federal Advisory Committees Act (Pub. L. 92-463) and under the Secure Rural Schools and Community Self-Determination Act of 2000 (Pub. L. 106-393) the Lassen National Forest's Lassen County Resource Advisory Committee will meet Wednesday, December 10, 2003, and Thursday, December 11, 2003 in Susanville, California for business meetings. The meetings are open to the public.

SUPPLEMENTARY INFORMATION: The meeting December 10th begins at 9 a.m., at the Eagle Lake Ranger District Office, 477-050 Eagle Lake Road, Susanville, CA 96130. The meeting objectives are for RAC members and the public to hear project presentations from proponents. The meeting on December 11th begins at 9 a.m. at the Eagle Lake Ranger District Office, 477-050 Eagle Lake Road, Susanville, CA 96130. Agenda topics will include: Selection of proposed RAC projects, develop January meeting agenda, and meeting calendar for 2004. Time will also be set aside for public comments at the end of the meeting.

FOR FURTHER INFORMATION: Contact Robert Andrews, Eagle Lake District Ranger and Designated Federal Officer, at (530) 257-4188; or RAC Coordinator, Heidi Perry, at (530) 252-6604.

Edward C. Cole,
Forest Supervisor.

[FR Doc. 03-29714 Filed 11-26-03; 8:45 am]

BILLING CODE 3410-11-M